DEPARTMENT OF DEFENSE

Department of the Army; Corps of Engineers

Notice of Availability of the Draft Environmental Impact Statement for the Va Shly'ay Akimel Ecosystem Restoration Feasibility Study, Maricopa County, AZ

AGENCY: Department of the Army, U.S. Army Corps of Engineers, DoD.

ACTION: Notice of availability.

SUMMARY: The Environmental Impact Statement (EIS) addresses foreseeable environmental impacts from measures being investigated to include habitat restoration, channel realignment, and sand and gravel mining quarry pit reshaping within and around the Salt River, Maricopa County, AZ. U.S. Army Corps of Engineers, the Salt River Pima-Maricopa Indian Community (SRPMIC) and the City of Mesa have cooperated in conducting this feasibility study. U.S. Army Corps of Engineers is the lead Federal Agency for this study.

The purpose of the Va Shly'ay Akimel Ecosystem Restoration Study is to produce available riparian ecosystem that will support native wildlife and vegetation, which will improve the overall ecological heath of the river and return the project area to a less degraded, more natural condition. The Study resulted in a report recommending that congress authorize a project for implementation by the Corps of Engineers to address the problems and needs of the study area.

Six alternatives, including the no action alternative, are evaluated in the Draft EIS. In general, the primary difference among alternatives is the acreage of each vegetation type and the resulting water necessary to maintain the vegetation. Other differences are the inclusion or exclusion of structural features such as river channelization and bank stabilization.

This study area includes a 14-mile reach of the Salt River within the SRPMIC and City of Mesa, and its upper banks. The SRPMIC and the City of Mesa identified the need for ripairan ecosystem restoration and restoration of the river channel functions.

DATES: The draft EIS will be released for public review on or about May 3, 2004. The Environmental Protection Agency plans to publish a notice of availability of the Draft EIS in the Federal Register on or about May 7, 2004. The public review of the Draft EIS ends on June 21, 2004. The final public hearing is scheduled for Thursday, June 3, 2004, at 6:30 p.m., at the Lehi Community Center, 1231 East Oak Street, Mesa, Arizona. Comments concerning this Draft EIS should be submitted to the address listed below by June 21, 2004.

ADDRESSES: District Engineer, U.S. Army Corps of Engineers, Los Angeles District, ATTN: CESPL-PD-RN, P.O. Box 532711, Los Angeles, CA 90053-2325.

FOR FURTHER INFORMATION CONTACT: Ms. Sarah Laughlin, Environmental Coordinator, telephone (540) 231-8303, or Ms. Kayla Eckert, Study Manager, telephone (602)-640-2001. The SRPMIC, a cooperating entity, requests inquiries to Ms. Marilyn Ethelbah, Cultural and Environmental Services, telephone (480) 850-4157, or for any additional information. The City of Mesa requests inquires to Mr. Gordon Haws, Senior Engineer, telephone (480) 644-2251, or for any additional information.

SUPPLEMENTARY INFORMATION: 1. Authorization. This study was prepared as an interim response to the following authorities provided by Congress: (1) House Resolution 2425 (HR 2425), dated May 17, 1994, which states: “* * * the Secretary of the Army is requested to review reports of the Chief of Engineers on the State of Arizona * * * in the interest of flood damage reduction, environmental protection and restoration, and related purposes.” (2) The second authority is given in Public Law 761, Seventy-fifth Congress, dated June 28, 1938, known as section 6 of the Flood Control Act of 1938 of Public Law 761, which reads in part, “The Secretary of War is hereby authorized and directed to cause preliminary examination and surveys * * * at the following localities * * * Gila River and tributaries, Arizona.” The Energy and Water development Appropriations Act of 2001 (Pub. L. 106-377, dated October 17, 2000) provided $150,000 for the U.S. Army Corps of Engineers to evaluate opportunities for environmental restoration and related matters on the Salt River in Arizona.

2. Background. The Salt River is a major tributary to the Gila River in Arizona. The river originates in eastern Arizona and flows westward to its confluence with the Gila River west of downtown Phoenix. Prior to agricultural development and urbanization of the Phoenix metropolitan area, the Salt River was a perennial stream fed by snowmelt from mountains in eastern Arizona. In the early part of the 20th century, major modifications to the river system occurred as part of the Salt River Project, which placed several dams along the Salt River to allow diversions of water for agricultural and urban uses. Sand and gravel mining operations and other activities along the river induce additional changes to the river channel and hydrology. As diversions of water increased, the perennial flows in the river ceased, causing the groundwater table to drop. These changes in hydrological conditions caused the natural riparian ecosystem to decline to the point that only small, isolated fragments of this former habitat remain. At the present time, the study area consists of a highly disturbed riverbed with minimal extant native vegetation.

This DEIS provides: (1) A description of restoration alternatives, including the no-action alternative; (2) an analyzes of the existing and future conditions of the area without the project; (3) and analyzes the impacts associated with five alternatives that have been determined to be the most feasible, including the preferred alternative (proposed action).

3. Proposed Action. The proposed action includes the establishment of approximately 200 acres of wetlands; 880 acres of cottonwood/willow stands; 380 acres of mesquite bosque; and 24 acres of Sonoran desert scrub shrub. Each vegetation types will be irrigated through either a drip irrigation system or a type of flood irrigation; both systems will use surface water currently owned by the SRPMIC, or groundwater pumped from an existing or new well. Other features include removal of invasive vegetation, reshaping of abandon sand and gravel mining pits, reshaping of some sections of the river channel to return water flow to a more natural pathway, a grade control structure, and a recreation trail system.

4. Alternatives.

a. No action: No vegetation or structural features would be placed within the Salt River.

b. Five alternatives are evaluated in the Draft EIS. In general, the primary difference among alternatives is the acreage of each vegetation type and the resulting water necessary to maintain the vegetation. Other differences are the inclusion or exclusion of structural features such as river channelization and bank stabilization.

5. Scoping Process. Participation of all interested Federal, State and county resource agencies, as well as Native American peoples, groups with environmental interests, and all interested individuals are encouraged. The public review period will conclude 45 days after publication of this notice.

The U.S. Army Corps of Engineers and the SRPMIC and City of Mesa, the local sponsors, will consider public concerns on the Draft EIS. A summary of the public hearing and written comment letters and responses will be incorporated into the Final EIS as appropriate.

Brenda S. Bowen,
Alternate Army Federal Register Liaison Officer.

[FR Doc. 04-9601 Filed 4-27-04; 8:45 am]

BILLING CODE 3710-KF-M